Title 3—

The President

Executive Order 13414 of November 3, 2006

Amendment to Executive Order 13402, Strengthening Federal Efforts To Protect Against Identity Theft

By the authority vested in me as President by the Constitution and the laws of the United States of America, and in order to amend the date by which the Identity Theft Task Force shall submit to the President its coordinated strategic plan, it is hereby ordered that section 3(a) of Executive Order 13402 of May 10, 2006, is amended to read as follows: “review the activities of executive branch departments, agencies, and instrumentalities relating to the policy set forth in section 1, and building upon these prior activities, prepare and submit in writing to the President by February 9, 2007, or as soon as practicable thereafter as the Chairman and Co-Chairman shall determine, a coordinated strategic plan to further improve the effectiveness and efficiency of the Federal Government's activities in the areas of identity theft awareness, prevention, detection, and prosecution.”.

THE WHITE HOUSE,

November 3, 2006.

[FR Doc. 06-9148

Filed 11-7-06; 8:45 am]

Billing code 3195-01-P